FEDERAL COMMUNICATIONS COMMISSION

47 CFR Part 21

[DA 01-1072]

Multipoint Distribution Service (MDS); Two-Way Transmissions

AGENCY: Federal Communications Commission.

ACTION: Proposed rule.

SUMMARY: The Mass Media Bureau (“Bureau”) seeks comment on a proposal to extend the current five-year build-out requirement imposed upon Basic Trading Area (“BTA”) authorization holders in the Multipoint Distribution Service (“MDS”) by two years. BTA authorization holders currently have five years from the grant date of the initial BTA authorization to construct, develop and expand MDS station operations in their respective protected service areas. On August 16, 1996, the Commission granted 334 of the 493 BTA authorizations to 54 different entities. By this proposed rule, the Bureau seeks comment on its proposal to extend the build-out requirement by two years.

DATES: Comments due on or before May 9, 2001. Reply comments are due on or before May 16, 2001.

FOR FURTHER INFORMATION CONTACT: Brad Lerner (202) 418-7066, Video Services Division, Mass Media Bureau.

SUPPLEMENTARY INFORMATION: This is a synopsis of the Mass Media Bureau's Public Notice entitled, In the Matter of Extension of the Five-year Build-out Period for BTA Authorization Holders in the Multipoint Distribution Service, DA 01-1072, released April 25, 2001. The full text of this Public Notice is available for inspection and copying during normal business hours in the FCC Reference Room, Room CY-A257, Portals II, 445 12th Street, SW., Washington, DC, and also may be purchased from the Commission's copy contractor, International Transcription Services, Inc. (“ITS”), Portals II, 445 12th Street, SW. Room CY-B402, Washington, DC 20554.

Synopsis of Public Notice

Traditionally, MDS spectrum has been used to deliver multichannel video programming services similar to cable television. As noted above, the Commission auctioned 493 BTAs for the provision of these wireless cable services. Since the 1996 auction, the MDS industry has been rapidly evolving. In October 1996, the Commission allowed MDS operators to use their spectrum for high-speed digital data applications, including Internet access. In March 1997, the Wireless Cable Association International, Inc., along with over 100 participants, petitioned the Commission to grant the industry the right to use MDS and Instructional Television Fixed Service (“ITFS”) spectrum for two-way services. Two-way authorization would effectively enable voice, video, and data over the spectrum. In 1998, the Commission approved the use of two-way transmissions on MDS and ITFS frequencies.

In the initial filing window for two-way service, which was held August 14-18, 2000, MDS and ITFS licensees filed approximately 2,267 applications. On April 6, 2001, the Bureau released its first Public Notice announcing the grant of 1,024 of these applications. The Bureau will continue to grant additional two-way applications and on April 16, 2001, the Bureau began the transition to the rolling one-day filing window procedure. Section 21.930(c)(1) of the Commission's rules provides that within five years of the grant of a BTA authorization, the authorization holder must construct MDS stations to provide signals pursuant to section 21.907, 47 CFR 21.907, that are capable of reaching at least two-thirds of the population of the applicable service area, excluding the populations within protected service areas of incumbent stations. The build-out benchmarks were originally established in order to ensure that BTA authorization holders would promptly deliver their anticipated video programming service to the public.

The Bureau proposes to extend the five-year build-out requirement as set forth in § 21.930(a)(1) of the Commission's rules, 47 CFR 21.930(a)(1), by two years. In light of the service rule changes, the timing of the initial filing window, the recent two-way application grants allowing BTA authorization holders to provide broadband service, the forthcoming grants of other pending two-way applications, and the upcoming August 16, 2001 build-out deadline for many BTAs, we tentatively conclude that extension of the five-year build-out requirement by two years for all BTAs will promote the maximization of efficient and effective use of this service. The Bureau believes that it would be inequitable to require authorization holders to follow build-out criteria applicable to rules governing wireless cable operations since many of them are now providing high-speed broadband services.

Federal Communications Commission.
Barbara A. Kreisman,
Chief, Video Services Division, Mass Media Bureau.

[FR Doc. 01-10768 Filed 4-27-01; 8:45 am]

BILLING CODE 6712-01-P